DEPARTMENT OF COMMERCE

International Trade Administration

Agency Information Collection Activities; Submission to the Office of Management and Budget (OMB) for Review and Approval; Comment Request; Request for Duty-Free Entry of Scientific Instrument or Apparatus

AGENCY: Enforcement & Compliance, International Trade Administration, Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before May 16, 2023.

ADDRESSES: Interested persons are invited to submit written comments by mail to Dianne Hanshaw, Statutory Import Program Assistant, Enforcement & Compliance, International Trade Administration, Room 3720, U.S. Department of Commerce, Washington, DC 20230; or by email to Dianne.Hanshaw@trade.gov or PRAcomments@doc.gov. Please reference OMB Control Number 0625-0037 in the subject line of your comments. Do not submit Confidential Business Information or otherwise sensitive or protected information.

FOR FURTHER INFORMATION CONTACT: Requests for additional information or specific questions related to collection activities should be directed to Dianne Hanshaw, Statutory Import Program Assistant, Enforcement & Compliance, International Trade Administration, Room 3720, U.S. Department of Commerce, Washington, DC 20230; by telephone at (202) 482-1661, or by email to Dianne.Hanshaw@trade.gov.

SUPPLEMENTARY INFORMATION:

I. Abstract

The Departments of Commerce and Homeland Security (“DHS”) are required to determine whether nonprofit institutions established for scientific or educational purposes are entitled to duty-free entry for scientific instruments the institutions import under the Florence Agreement. Form ITA-338P enables: (1) DHS to determine whether the statutory eligibility requirements for the institution and the instrument are fulfilled, and (2) Commerce to make a comparison and finding as to the scientific equivalency of comparable instruments being manufactured in the United States. Without the collection of the information, DHS and Commerce would not have the necessary information to carry out the responsibilities of determining eligibility for duty-free entry assigned by law.

II. Method of Collection

A copy of Form ITA-338P is provided on and downloadable from a website at http://enforcement.trade.gov/sips/sipsform/ita-338p.pdf or the potential applicant may request a copy from the Department. The applicant completes the form and then forwards it via mail to DHS.

Upon acceptance by DHS as a valid application, the application is transmitted to Commerce for further processing.

III. Data

OMB Control Number: 0625-0037.

Form Number(s): ITA-338P.

Type of Review: Regular submission.

Affected Public: State or local government; Federal agencies; not for-profit institutions.

Estimated Number of Respondents: 65.

Estimated Time per Response: 2 hours.

Estimated Total Annual Burden Hours: 130.

Estimated Total Annual Cost to Public: $2,138.

Respondent's Obligation: Required to receive benefits.

Legal Authority: 19 U.S.C. 1202; 15 CFR 301.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary of Economic Affairs, Commerce Department.

[FR Doc. 2023-05518 Filed 3-16-23; 8:45 am]

BILLING CODE 3510-DS-P